DEPARTMENT OF COMMERCE

Economic Development Administration

Notice of National Advisory Council on Innovation and Entrepreneurship Meeting

AGENCY: Economic Development Administration, Commerce.

ACTION: Notice of an open meeting.

SUMMARY: The National Advisory Council on Innovation and Entrepreneurship (NACIE) will hold a public meeting via teleconfrerence on Wednesday, December 7, 2016. During this time, members will discuss initial ideas and efforts underway and determine its focus on projects and potential recommendations leading up to NACIE's next quarterly meeting in early 2017.

DATES: Wednesday, December 7, 2016.

Time: 2:00 p.m.-4:00 p.m. Eastern Time (ET).

ADDRESSES: This meeting will be held by teleconference; a physical address is therefore not applicable.

Teleconference Information

Toll-Free: +1 877 950 4778.

Passcode: 4423486.

SUPPLEMENTARY INFORMATION: The Council was chartered on November 10, 2009, to advise the Secretary of Commerce on matters related to innovation and entrepreneurship in the United States. NACIE's overarching focus is recommending transformational policies to the Secretary that will help U.S. communities, businesses, and the workforce become more globally competitive. The Council operates as an independent entity within the Office of Innovation and Entrepreneurship (OIE), which is housed within the U.S. Commerce Department's Economic Development Administration. NACIE members are a diverse and dynamic group of successful entrepreneurs, innovators, and investors, as well as leaders from nonprofit organizations and academia.

The purpose of this meeting is to discuss the Council's planned work initiatives in three focus areas: workforce/talent, entrepreneurship, and innovation. The final agenda will be posted on the NACIE Web site at http://www.eda.gov/oie/nacie/ prior to the meeting. Any member of the public may submit pertinent questions and comments concerning the Council's affairs at any time before or after the meeting. Comments may be submitted to the Office of Innovation and Entrepreneurship at the contact information below. Copies of the meeting minutes will be available by request within 90 days of the meeting date.

FOR FURTHER INFORMATION CONTACT: Craig Buerstatte, Office of Innovation and Entrepreneurship, Room 78018, 1401 Constitution Ave. NW., Washington, DC 20230; email: nacie@doc.gov; telephone: +1 202 482 8001; facsimile: +1 202 273 4781. Please reference “NACIE December 7, 2016” in the subject line of your correspondence.

Dated: November 18, 2016.
Craig Buerstatte,
Deputy Director, Office of Innovation and Entrepreneurship.

[FR Doc. 2016-28247 Filed 11-22-16; 8:45 am]

BILLING CODE 3510-WH-P